DEPARTMENT OF THE TREASURY

Submission for OMB Review; Comment Request

January 25, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 7, 2005 to be assured of consideration.

Internal Revenue Service (IRS)

OMB Number: 1545-1394.

Form Number: IRS Form 1120-SF.

Type of Review: Extension.

Title: U.S. Income Tax Return for Settlement Funds (Under Section 468B).

Description: Form 1120-SF is used by settlement funds to report income and taxes on earnings of the fund. The fund may be established by court order, a breach of contract, a violation of law, an arbitration panel, or the Environmental Protection Agency. The IRS uses Form 1120-F to determine if income and taxes are correctly computed.

Respondents: Business or other for-profit.

Estimated Number of Respondents/Recordkeepers: 1,000.

Estimated Burden Hours Respondent/Recordkeeper:

Recordkeeping—18 hr., 24 min.

Learning about the law or the form—2 hr., 49 min.

Preparing the form—5 hr., 6 min.

Copying, assembling, and sending the form to the IRS—32 min.

Frequency of response: Annually.

Estimated Total Reporting/Recordkeeping Burden: 26,880 hours.

OMB Number: 1545-1423.

Regulation Project Number: PS-106-91 Final.

Type of Review: Extension.

Title: State Housing Credit Ceiling and Other Rules Relating to the Low-Income Housing Credit.

Description: The regulations provide the order in which credits are allocated from each State's credit ceiling under section 422(h)(3)© and the determination of which states qualify for credits from a National Pool of credits under section 42(h)(3)(D). Allocating agencies need this information to correctly allocate credits and determine National Pool eligibility.

Respondents: Business or other for-profit, Individuals or households. Not-for-profit institutions, State, Local or Tribal Government.

Estimated Number of Respondents: 110.

Estimated Burden Hours Respondent: 2 hours, 30 minutes.

Frequency of response: Other (one time per event).

Estimated Total Reporting Burden: 275 hours.

OMB Number: 1545-1478.

Regulation Project Number: INTL-9-95 Final.

Type of Review: Extension.

Title: Certain Transfers of Domestic Stock or Securities by U.S. Persons to Foreign Corporations.

Description: Transfers of stock or securities by U.S. persons in tax-free transactions are treated as taxable transactions when the acquirer is a foreign corporation, unless an exception applies (section 367(a)). Under the regulations, no U.S. person will qualify for an exception unless the U.S. target company complies with certain reporting requirements.

Respondents: Business or other for-profit.

Estimated Number of Respondents: 100.

Estimated Burden Hours Respondent: 10 hours.

Frequency of Response: Other (once).

Estimated Total Reporting Burden: 1,000 hours.

OMB Number: 1545-1634.

Regulation Project Number: REG-106902-98 Final.

Type of Review: Extension.

Title: Consolidated Returns—Consolidated Overall Foreign Losses and Separate Limitation Losses.

Description: The regulations provide guidance relating to the amount of overall foreign losses and separate limitation losses in the computation of the foreign tax credit. The regulations affect consolidated groups of corporations that compute the foreign tax credit limitation or that disposes of property used in a foreign trade or business.

Respondents: Business or other for-profit.

Estimated Number of Respondents: 2,000.

Estimated Burden Hours Respondent: 1 hour, 30 minutes.

Frequency of Response: On occasion.

Estimated Total Reporting Burden: 3,000 hours.

OMB Number: 1545-1750.

Form Number: IRS Form 8038-R.

Type of Review: Extension.

Title: Request for Recovery of Overpayments under Arbitrage Rebate Provisions.

Description: Under Treasury Regulations section 1.148-3(i), bond issuers may recover an overpayment of arbitrage rebate paid to the United States under Internal Revenue Code section 148. Form 8038-R is used to request recovery of any overpayment of arbitrage rebate made under the arbitrage rebate provisions.

Respondents: State, Local or Tribal Government.

Estimated Number of Respondents/Recordkeepers: 200.

Estimated Burden Hours Respondent/Recordkeeper:

Recordkeeping—5 hr., 44 min.

Learning about the law or the form—3 hr., 16 min.

Preparing, copying, assembling, and sending the form to the IRS—3 hr., 30 min.

Frequency of Response: On occasion.

Estimated Total Reporting/Recordkeeping Burden: 2,458 hours.

Clearance Officer: Paul H. Finger, Internal Revenue Service, Room 6516, 1111 Constitution Avenue, NW., Washington, DC 20224, (202) 622-3634.

OMB Reviewer: Joseph F. Lackey, Jr., Office of Management and Budget, Room 10235, New Executive Office Building, Washington, DC 20503, (202) 395-7316.

Lois K. Holland,
Treasury PRA Clearance Officer.

[FR Doc. 05-2167 Filed 2-3-05; 8:45 am]

BILLING CODE 4830-01-P